SMALL BUSINESS ADMINISTRATION

13 CFR Parts 107 and 121

SBA Reinvestor (“Fund-of-Funds”) Small Business Investment Company (SBIC) License Educational Public Webinar

AGENCY: U.S. Small Business Administration (SBA).

ACTION: Notification of public webinar.

SUMMARY: The SBA is holding a webinar to educate the public on the new Reinvestor SBIC License introduced to the market as part of the SBIC Investment Diversification and Growth Final Rule that went into effect on August 17, 2023.

DATES: The public webinar will be held on Friday, March 22, 2024, from 1 p.m. to 2 p.m. Eastern Time.

ADDRESSES: Information about applying for and managing a Reinvestor (“fund-of-funds”) SBIC License. The Webinar will be live streamed on Microsoft Teams for the public.

FOR FURTHER INFORMATION CONTACT: The meeting will be live streamed to the public, and anyone wishing to attend or needing accommodations because of a disability can contact Gretchen Kittel, SBA, Office of Investment & Innovation (OII), (202) 578-5502, investinnovate@sba.gov.

SUPPLEMENTARY INFORMATION:

I. Background

On August 17, 2023, the U.S. Small Business Administration (“SBA”) implemented new regulations for the Small Business Investment Company (“SBIC”) program as part of the SBIC Investment Diversification and Growth rulemaking. The new regulations significantly reduce barriers to program participation for new SBIC fund managers and funds investing in underserved communities and geographies, capital intensive investments, and technologies critical to national security and economic development. The proposed rule introduced two additional types of SBIC Licensees, Reinvestor SBICs and Accrual SBICs, to increase program investment diversification and equity-oriented financing for American small businesses and innovative startups. Reinvestor SBICs expand SBA's network of emerging fund managers, micro-funds, and funds addressing underserved communities and geographies and undercapitalized industries.

II. Questions

For the public webinar, OII strongly encourages questions be submitted in advance by March 20, 2024. Individuals may email investinnovate@sba.gov with subject line—“[Name/Organization] Question for 03/22/24 Public Webinar.” During the live event, attendees will be in listen-only mode and may submit additional questions via the Q&A Chat feature.

III. Information on Service for Individuals With Disabilities

For information on services for individuals with disabilities or to request special assistance, contact Gretchen Kittel at the telephone number or email address indicated under the FOR FURTHER INFORMATION CONTACT section of this notice.

Bailey DeVries,
Associate Administrator, Office of Investment & Innovation, U.S. Small Business Administration.

[FR Doc. 2024-05266 Filed 3-12-24; 8:45 am]

BILLING CODE 8026-09-P